DEPARTMENT OF COMMERCE

National Oceanic and Atmospheric Administration

RIN 0648-XF279

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet April 3, 2017 through April 11, 2017.

DATES: The meetings will be held Monday, April 3 through Tuesday, April 11, 2017. See SUPPLEMENTARY INFORMATION for specific dates and times.

ADDRESSES: The meeting will be held at the Anchorage Hilton Hotel, 500 W. 3rd Ave, Anchorage, AK 99501.

Council address: North Pacific Fishery Management Council, 605 W. 4th Ave., Suite 306, Anchorage, AK 99501-2252; telephone (907) 271-2809.

FOR FURTHER INFORMATION CONTACT: David Witherell, Council staff; telephone: (907) 271-2809.

SUPPLEMENTARY INFORMATION: The Council will begin its plenary session at 8 a.m. in the Aleutian Room on Wednesday, April 5, continuing through Tuesday, April 11, 2017. The Scientific and Statistical Committee (SSC) will begin at 8 a.m. in the King Salmon/Iliamna Room on Monday April 3rd and continue through Wednesday April 5, 2017. The Council's Advisory Panel (AP) will begin at 8 a.m. in the Dillingham/Katmai Room on Tuesday April 4th, and continue through Saturday April 8, 2017. The Legislative Committee will meet on Monday April 3, 2017 (room to be determined) from 1 p.m. to 5 p.m. The Ecosystem Committee will meet on Tuesday April 4th, 2017 (room to be determined) from 9 a.m. to 5 p.m.

Agenda

Monday, April 3, 2017 Through Tuesday, April 11, 2017

Council Plenary Session: The agenda for the Council's plenary session will include the following issues. The Council may take appropriate action on any of the issues identified.

1. Executive Director's Report (including update on Social Science Strategy Group development, report from the Lenfest Fisheries Ecosystem Task Force; CCC update, Legislation update, and update on SBRM requirements)

2. NMFS Management Report (including Marine Mammals Take Accounting, Fur Seal Status and Management planning, AFSC Research Prioritization)

3. ADF&G Report

4. NIOSH Report

5. USCG Report

6. USFWS Report

7. Protected Species

8. Scallop SAFE and Plan Team Report

9. Salmon FMP Amendment

10. Pollock ICA/IPA Reports; Update on Salmon Genetics

11. Co-op Reports

12. GOA Rockfish Program Review

13. EFH Omnibus Amendment

14. Halibut Abundance-based PSC Limits

15. CDQ Ownership Caps

16. EM Working Group Report

17. Lead Level 2 Observers

18. BSAI Crab Binding Arbitration Formula

19. BSAI Tanner Crab Custom Processing Cap

20. BS Fishery Ecosystem Plan

21. Programmatic Groundfish Objectives

The Advisory Panel will address most of the same agenda issues as the Council except B reports.

The SSC agenda will include the following issues:

1. Scallop SAFE and Annual Catch Limit Specifications

2. BS Fishery Ecosystem Plan

3. EFH Omnibus Amendment

4. Lead Level 2 Observers

5. Salmon Genetics

6. GOA Rockfish Program Workplan

7. Reports on Marine Mammal Take Accounting, Fur Seal Status and Management, AFSC Research Prioritization

8. CDQ Ownership Caps

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/

Special Accommodations

These meetings are physically accessible to people with disabilities. Requests for sign language interpretation or other auxiliary aids should be directed to Shannon Gleason at (907) 271-2809 at least 7 working days prior to the meeting date.

Dated: March 8, 2017.
Tracey L. Thompson,
Acting Deputy Director, Office of Sustainable Fisheries, National Marine Fisheries Service.

[FR Doc. 2017-04890 Filed 3-10-17; 8:45 am]

BILLING CODE 3510-22-P